GENERAL SERVICES ADMINISTRATION

41 CFR Part 102-36

[FPMR Amendment H-205]

RIN 3090-AF39

Disposition of Excess Personal Property; Correction

AGENCY: Office of Governmentwide Policy, GSA.

ACTION: Final rule; correction.

SUMMARY: This document corrects an error contained in a final rule appearing in Part III of the Federal Register of Tuesday, May 16, 2000 (64 FR 31218). The rule revised the Federal Property Management Regulations (FPMR) by moving coverage on the disposition of excess personal property into the Federal Management Regulation (FMR) and adding a cross-reference to the FPMR to direct readers to the coverage in the FMR.

EFFECTIVE DATE: May 30, 2000.

FOR FURTHER INFORMATION CONTACT: Martha Caswell, Director, Personal Property Management Policy Division (MTP), 202-501-3828.

SUPPLEMENTARY INFORMATION: In rule document 00-11921 beginning on page 31218 in the issue of Tuesday, May 16, 2000, make the following correction:

§ 102-36.170 [Corrected]

1. On page 31225, in the first column, in the second line, “in” should read “is”.

Dated: May 19, 2000.
Sharon A. Kiser,
Federal Acquisition Policy Division, Office of Governmentwide Policy.

[FR Doc. 00-13147 Filed 5-24-00; 8:45 am]

BILLING CODE 6820-24-P